DEPARTMENT OF LABOR

Employment and Training Administration

[TA-W-81,791]

Fasco, a Division of Regal Beloit Corporation, Including On-Site Leased Workers From Penmac Personnel Services, Eldon, MI; Notice of Affirmative Determination Regarding Application for Reconsideration

By application dated August 30, 2012, workers requested administrative reconsideration of the negative determination regarding workers' eligibility to apply for Trade Adjustment Assistance (TAA) applicable to workers and former workers of Fasco, a division of Regal Beloit Corporation, Eldon, Missouri (Fasco). The determination was issued on August 7, 2012. The Department's Notice of determination was published in the Federal Register on August 23, 2012 (77 FR 51066).

Fasco is a warehouse and distribution center for electric motors. The subject worker group includes workers engaged in activities related to the supply of warehousing and distribution of electric motors, as well as engineering, customer service and information technology services. The worker group includes on-site leased workers from Penmac Personnel Services.

The initial investigation resulted in a negative determination based on the findings that there were no shifts to/acquisition from a foreign country by Fasco in the supply of services like or directly competitive with those supplied by the subject workers; that there were no increased imports of services like or directly competitive with those supplied by the subject workers; that Fasco is neither a Supplier to nor a Downstream Producer of a firm that employed a worker group eligible to apply for TAA; and that the workers of Fasco have not met the criteria set forth in Section 222(e) of the Trade Act, as amended.

The request for reconsideration states that workers of the Engineering Services Department provide engineering services to both “the Fasco division” and the “Fort Wayne Genteq division” of Regal Beloit Corporation. Support material provided by the workers alleges that services supplied by the Engineering Services Department in support of production in Mexico are shifting to Mexico and that requisition engineering work is shifting to India.

The Department has carefully reviewed the request for reconsideration and the existing record, and will conduct further investigation to clarify the subject worker group and to determine if workers have met the eligibility requirements of the Trade Act of 1974, as amended.

Conclusion

After careful review of the application, I conclude that the claim is of sufficient weight to justify reconsideration of the U.S. Department of Labor's prior decision. The application is, therefore, granted.

Signed at Washington, DC, this 14th day of September, 2012.
Del Min Amy Chen,
Certifying Officer, Office of Trade Adjustment Assistance.

[FR Doc. 2012-24056 Filed 9-28-12; 8:45 am]

BILLING CODE 4510-FN-P